DEPARTMENT OF HEALTH AND HUMAN SERVICES

National Institutes of Health

Center for Scientific Review; Amended Notice of Meeting

Notice is hereby given of a change in the meeting of the Clinical Oncology Study Section, October 07, 2013, 08:00 a.m. to October 07, 2013, 07:00 p.m., Holiday Inn Riverwalk, 217 N Saint Mary's Street, San Antonio, TX, 78205 which was published in the Federal Register on September 11, 2013, 78 FR 55752.

The meeting will be held at the Crowne Plaza Tysons Corner Hotel. 1960 Chain Bridge Road, McLean, VA 22102, on November 18, 2013, starting at 08:00 a.m. and ending at 06:00 p.m. The meeting is closed to the public.

Dated: October 23, 2013.
David Clary,
Program Analyst, Office of Federal Advisory Committee Policy.

[FR Doc. 2013-25503 Filed 10-28-13; 8:45 am]

BILLING CODE 4140-01-P